Title 3—

The President

Executive Order 13605 of April 13, 2012

Supporting Safe and Responsible Development of Unconventional Domestic Natural Gas Resources

By the authority vested in me as President by the Constitution and the laws of the United States of America, and in order to coordinate the efforts of Federal agencies responsible for overseeing the safe and responsible development of unconventional domestic natural gas resources and associated infrastructure and to help reduce our dependence on oil, it is hereby ordered as follows:

Section 1. Policy. In 2011, natural gas provided 25 percent of the energy consumed in the United States. Its production creates jobs and provides economic benefits to the entire domestic production supply chain, as well as to chemical and other manufacturers, who benefit from lower feedstock and energy costs. By helping to power our transportation system, greater use of natural gas can also reduce our dependence on oil. And with appropriate safeguards, natural gas can provide a cleaner source of energy than other fossil fuels.

For these reasons, it is vital that we take full advantage of our natural gas resources, while giving American families and communities confidence that natural and cultural resources, air and water quality, and public health and safety will not be compromised.

While natural gas production is carried out by private firms, and States are the primary regulators of onshore oil and gas activities, the Federal Government has an important role to play by regulating oil and gas activities on public and Indian trust lands, encouraging greater use of natural gas in transportation, supporting research and development aimed at improving the safety of natural gas development and transportation activities, and setting sensible, cost-effective public health and environmental standards to implement Federal law and augment State safeguards.

Because efforts to promote safe, responsible, and efficient development of unconventional domestic natural gas resources are underway at a number of executive departments and agencies (agencies), close interagency coordination is important for effective implementation of these programs and activities. To formalize and promote ongoing interagency coordination, this order establishes a high-level, interagency working group that will facilitate coordinated Administration policy efforts to support safe and responsible unconventional domestic natural gas development.

Sec. 2. Interagency Working Group to Support Safe and Responsible Development of Unconventional Domestic Natural Gas Resources. There is established an Interagency Working Group to Support Safe and Responsible Development of Unconventional Domestic Natural Gas Resources (Working Group), to be chaired by the Director of the Domestic Policy Council, or a designated representative.

(a) Membership. In addition to the Chair, the Working Group shall include deputy-level representatives or equivalent officials, designated by the head of the respective agency or office, from:

(i) the Department of Defense;

(ii) the Department of the Interior;

(iii) the Department of Agriculture;

(iv) the Department of Commerce;

(v) the Department of Health and Human Services;

(vi) the Department of Transportation;

(vii) the Department of Energy;

(viii) the Department of Homeland Security;

(ix) the Environmental Protection Agency;

(x) the Council on Environmental Quality;

(xi) the Office of Science and Technology Policy;

(xii) the Office of Management and Budget;

(xiii) the National Economic Council; and

(xiv) such other agencies or offices as the Chair may invite to participate.

(b) Functions. Consistent with the authorities and responsibilities of participating agencies and offices, the Working Group shall support the safe and responsible production of domestic unconventional natural gas by performing the following functions:

(i) coordinate agency policy activities, ensuring their efficient and effective operation and facilitating cooperation among agencies, as appropriate;

(ii) coordinate among agencies the sharing of scientific, environmental, and related technical and economic information;

(iii) engage in long-term planning and ensure coordination among the appropriate Federal entities with respect to such issues as research, natural resource assessment, and the development of infrastructure;

(iv) promote interagency communication with stakeholders; and

(v) consult with other agencies and offices as appropriate.

Sec. 3. General Provisions. (a) This order shall be implemented consistent with applicable law and subject to the availability of appropriations.

(b) Nothing in this order shall be construed to impair or otherwise affect:

(i) the authority granted by law to an executive department, agency, or the head thereof; or

(ii) the functions of the Director of the Office of Management and Budget relating to budgetary, administrative, or legislative proposals.

(c) This order is not intended to, and does not, create any right or benefit, substantive or procedural, enforceable at law or in equity by any party against the United States, its departments, agencies, or entities, its officers, employees, or agents, or any other person.

THE WHITE HOUSE,

April 13, 2012.

[FR Doc. 2012-9473

Filed 4-16-12; 3:00 pm]

Billing code 3295-F2-P